DEPARTMENT OF COMMERCE

National Oceanic and Atmospheric Administration

50 CFR Part 660

[Docket No. 210505-0101; RTID 0648-XB156]

Fisheries Off West Coast States; Modification of the West Coast Commercial Salmon Fisheries; Inseason Action #17

AGENCY: National Marine Fisheries Service (NMFS), National Oceanic and Atmospheric Administration (NOAA), Commerce.

ACTION: Inseason modification of 2021 management measures.

SUMMARY: NMFS announces an inseason action in the 2021 ocean salmon fisheries. These inseason actions modified the commercial salmon fisheries in the area from the U.S./Canada border to Cape Falcon, OR.

DATES: This inseason action became applicable on June 3, 2021, and remains in effect until superseded or modified.

FOR FURTHER INFORMATION CONTACT: Peggy Mundy at 206-526-4323, Email: peggy.mundy@noaa.gov.

SUPPLEMENTARY INFORMATION:

Background

In the 2021 annual management measures for ocean salmon fisheries (86 FR 26425, May 14, 2021), NMFS announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is generally divided into two geographic areas: North of Cape Falcon (NOF) (U.S./Canada border to Cape Falcon, OR), and south of Cape Falcon (Cape Falcon, OR, to the U.S./Mexico border). The actions described in this document affected the NOF commercial salmon fishery as set out under the heading.

Inseason Action

Reason and Authorization for Inseason Action #17

The fishery affected by the inseason action described below was authorized in the final rule for 2021 annual management measures for ocean salmon fisheries (86 FR 26425, May 14, 2021). The 2021 annual management measures established a May-June commercial salmon fishery that includes subarea quotas for the areas from the U.S./Canada border to Queets River, WA (5,680 Chinook salmon), and the area from Leadbetter Point, WA, to Cape Falcon, OR (4,195 Chinook salmon). Data for the first half of this fishery indicate that both effort and catch are well below preseason expectations. Through June 2, 2021, 850 Chinook salmon were landed in the area from the U.S./Canada border to Queets River (15 percent of the subarea quota), and 22 Chinook salmon were landed in the area from Leadbetter Point to Cape Falcon (0.5 percent of the subarea quota).

The NMFS West Coast Regional Administrator (RA) considered the landings of Chinook salmon in the NOF commercial salmon fishery, fishery effort occurring to date as well as anticipated under the proposal, quotas set preseason, and the Chinook salmon quota remaining. The RA determined that the inseason action described below was necessary to increase access to available Chinook salmon quota and meet management goals set preseason. The modification of limited retention regulations is authorized by 50 CFR 660.409(b)(1)(ii).

Consultation on this inseason action occurred on June 3, 2021. Representatives from NMFS, Washington Department of Fish and Wildlife, Oregon Department of Fish and Wildlife, and Council staff participated in the consultation.

Inseason Action

Inseason Action #17

Description of the action: Inseason action #17 increased the Chinook salmon landing limit in the May-June non-tribal commercial ocean salmon fishery from the U.S./Canada border to Queets River, and from Leadbetter Point to Cape Falcon from 75 Chinook salmon per vessel per landing week (Thursday through Wednesday) to 100 Chinook salmon per vessel per landing week (Thursday through Wednesday).

Effective dates: Inseason action #17 took effect on Thursday, June 3, 2021, the first day of the Thursday through Wednesday landing week, and remains in effect until superseded. This inseason action was announced on NMFS' telephone hotline and U.S. Coast Guard radio broadcast on June 3, 2021 (50 CFR 660.411(a)(2)).

All other restrictions and regulations remain in effect as announced for the 2021 ocean salmon fisheries (86 FR 26425, May 14, 2021).

The RA determined that this inseason action was warranted based on the best available information on Pacific salmon abundance forecasts and anticipated fishery effort. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on these actions, as notice and comment would be impracticable and contrary to the public interest. Prior notice and opportunity for public comment on these actions was impracticable because NMFS had insufficient time to provide for prior notice, and the opportunity for public comment between the time Chinook salmon abundance, catch, and effort information was developed and fisheries impacts were calculated, and the time the fishery modifications had to be implemented in order to ensure that fisheries are managed based on the best available scientific information. As previously noted, actual notice of the regulatory action was provided to fishers through telephone hotline and radio notification. This action complies with the requirements of the annual management measures for ocean salmon fisheries (86 FR 26425, May 14, 2021), the fishery management plan (FMP), and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: June 24, 2021.
Jennifer M. Wallace,
Acting Director, Office of Sustainable Fisheries, National Marine Fisheries Service.

[FR Doc. 2021-13836 Filed 6-28-21; 8:45 am]

BILLING CODE 3510-22-P